DEPARTMENT OF COMMERCE

International Trade Administration

[A-570-899]

Certain Artist Canvas From the People's Republic of China: Final Results of the Third Expedited Sunset Review of the Antidumping Duty Order

AGENCY: Enforcement and Compliance, International Trade Administration, Department of Commerce.

SUMMARY: As a result of this third expedited sunset review, the U.S. Department of Commerce (Commerce) finds that revoking the antidumping duty (AD) order on certain artist canvas (artist canvas) from the People's Republic of China (China) would likely lead to continuation or recurrence of dumping at the level indicated in the “Final Results of Third Sunset Review” section of this notice.

DATES: Applicable June 3, 2022.

FOR FURTHER INFORMATION CONTACT: Patrick Barton, AD/CVD Operations, Office III, Enforcement and Compliance, International Trade Administration, U.S. Department of Commerce, 1401 Constitution Avenue NW, Washington, DC 20230; telephone: (202) 482-0012.

SUPPLEMENTARY INFORMATION:

Background

The second and previous sunset review of the Order ¹ was initiated on October 3, 2016.² In the final results of the second expedited review, Commerce determined that revocation of the Order would likely lead to the continuation or recurrence of dumping.³

¹ See Notice of Antidumping Duty Order: Certain Artist Canvas from the People's Republic of China, 71 FR 31154 (June 1, 2006) (Order).

² See Initiation of Five-Year (“Sunset”) Review, 81 FR 67967 (October 3, 2016).

³ See Certain Artist Canvas from the People's Republic of China: Final Results of the Expedited Second Sunset Review of the Antidumping Duty Order, 82 FR 8724 (January 30, 2017), and accompanying IDM.

On February 1, 2022, Commerce published the notice of initiation of the third sunset review of the Order, pursuant to section 751(c) of the Tariff Act of 1930, as amended (the Act).⁴ Commerce received a notice of intent to participate from Ecker Textiles, LLC (Ecker Textiles), within the deadline specified in 19 CFR 351.218(d)(1)(i).⁵ Ecker Textiles claimed interested party status under section 771(9)(C) of the Act, as a domestic manufacturer and producer of artist canvas in the United States.

⁴ See Initiation of Five-Year (Sunset) Reviews, 87 FR 5467 (February 1, 2022).

⁵ See Ecker Textiles' Letter, “Section 751(c) Five-Year Sunset Review of the Antidumping Duty Order Against Artist Canvas from the People's Republic Of China; Notice of Intent to Participate,” dated February 9, 2022.

Commerce received a substantive response from Ecker Textiles within the 30-day deadline specified in 19 CFR 351.218(d)(3)(i).⁶ We received no substantive response from any other interested parties in this proceeding. As a result, pursuant to section 751(c)(3)(B) of the Act and 19 CFR 351.218(e)(1)(ii)(C)(2), Commerce conducted an expedited (120-day) sunset review of the Order.

⁶ See Ecker Textiles' Letter, “Section 751(c) Five-Year Sunset Review of the Antidumping Duty Order Against Artist Canvas from the People's Republic of China; Substantive Response of Domestic Interested Party,” dated March 2, 2022.

Scope of the Order

The products covered by the order are artist canvases regardless of dimension and/or size, whether assembled or unassembled, that have been primed/coated, whether or not made from cotton, whether or not archival, whether bleached or unbleached, and whether or not containing an ink receptive top coat. Priming/coating includes the application of a solution, designed to promote the adherence of artist materials, such as paint or ink, to the fabric. Artist canvases (i.e., pre-stretched canvases, canvas panels, canvas pads, canvas rolls (including bulk rolls that have been primed), printable canvases, floor cloths, and placemats) are tightly woven prepared painting and/or printing surfaces. Artist canvas and stretcher strips (whether or not made of wood and whether or not assembled) included within a kit or set are covered by the order.

Artist canvases subject to the order are currently classifiable under subheadings 5901.90.20.00 and 5901.90.40.00, 5901.90.40.00, 5903.90.2500, 5903.90.2000, 5903.90.1000, 5907.00.8090, 5907.00.8010, and 5907.00.6000 of the Harmonized Tariff Schedule of the United States (HTSUS). Specifically excluded from the scope of the order are tracing cloths, “paint-by-number” or “paint-it-yourself” artist canvases with a copyrighted preprinted outline, pattern, or design, whether or not included in a painting set or kit. Also excluded are stretcher strips, whether or not made from wood, so long as they are not incorporated into artist canvases or sold as part of an artist canvas kit or set. While the HTSUS subheadings are provided for convenience and customs purposes, our written description of the scope of the order is dispositive.

Analysis of Comments Received

All issues raised in this sunset review are addressed in the Issues and Decision Memorandum, which is hereby adopted by this notice.⁷ The Issues and Decision Memorandum is a public document and is on file electronically via Enforcement and Compliance's Antidumping and Countervailing Duty Centralized Electronic Service System (ACCESS). ACCESS is available to registered users at https://access.trade.gov. A list of topics discussed in the Issues and Decision Memorandum is included as an appendix to this notice. In addition, a complete version of the Issues and Decision Memorandum can be accessed directly at https://access.trade.gov/public/FRNoticesListLayout.aspx.

⁷ See Memorandum, “Issues and Decision Memorandum for the Third Expedited Sunset Review of the Antidumping Duty Order on Certain Artist Canvas from the People's Republic of China,” dated concurrently with, and hereby adopted by, this notice (Issues and Decision Memorandum).

Final Results of Third Sunset Review

Pursuant to sections 751(c)(1) and 752(c) of the Act, Commerce determines that revocation of the Order would be likely to lead to continuation or recurrence of dumping and that the magnitude of the margins of dumping likely to prevail is up to 264.09 percent.

Administrative Protective Order (APO)

This notice also serves as the only reminder to parties subject to an APO of their responsibility concerning the return or destruction of proprietary information disclosed under APO in accordance with 19 CFR 351.305. Timely notification of the return or destruction of APO materials or conversion to judicial protective order is hereby requested. Failure to comply with the regulations and terms of an APO is a violation which is subject to sanction.

Notification to Interested Parties

We are issuing and publishing the final results and this notice in accordance with sections 751(c), 752(c), and 777(i)(1) of the Act, and 19 CFR 351.218(e)(1)(ii)(C)(2) and 19 CFR 351.221(c)(5)(ii).

Dated: May 27, 2022.
Lisa W. Wang,
Assistant Secretary for Enforcement and Compliance.

Appendix

List of Topics Discussed in the Issues and Decision Memorandum

I. Summary

II. Background

III. Scope of the Order

IV. History of the Order

V. Legal Framework

VI. Discussion of the Issues

1. Likelihood of Continuation or Recurrence of Dumping

2. Magnitude of the Margins Likely to Prevail

VII. Final Results of Third Sunset Review

VIII. Recommendation

[FR Doc. 2022-11942 Filed 6-2-22; 8:45 am]

BILLING CODE 3510-DS-P